DEPARTMENT OF LABOR

Office of Federal Contract Compliance Programs

Proposed Extension of the Approval of Information Collection Requirements; Correction; OMB Number: 1250-0002

AGENCY: Office of Federal Contract Compliance Programs, Labor.

ACTION: Notice; correction.

SUMMARY: The Department of Labor, Office of Federal Contract Compliance Programs, published a document in the Federal Register on February 5, 2014 seeking comments on its information collection and revised complaint form. This form, “Complaint Form CC-4, Complaint of Employment Discrimination by Federal Government Contractors or Subcontractors,” is OMB control number 1250-0002. Under the heading “Improved Information Technology” in column 3 on page 6926 the incorrect statement “The CC-4 is available on the Internet for downloading or electronic submission at http://www.dol.gov/ofccp/regs/compliance/pdf/English.pdf.” is corrected to read “The current OMB approved CC-4 is available on the Internet for downloading or electronic submission at http://www.dol.gov/ofccp/regs/compliance/pdf/English.pdf.”

The first page of the proposed information collection on page 6929 of the Federal Register failed to display information in three fields located in the left-hand column, the third block of the right-hand column and the bottom section of the form. The questions and information included in these fields is posted below in a reformatted version of the form originally published on February 5, 2014.

FOR FURTHER INFORMATION CONTACT: Debra Carr, (202) 693-0103 (voice) or (202) 693-1337 (TTY).

Dated: February 11, 2014.
Debra A. Carr,
Director, Division of Policy, Planning and Program Development, Office of Federal Contract Compliance Programs.

BILLING CODE 4510-CM-P

[FR Doc. 2014-03505 Filed 2-18-14; 8:45 am]

BILLING CODE 4510-CM-C